DEPARTMENT OF JUSTICE

Notice of Lodging of Consent Decree Under the Comprehensive Environmental Response, Compensation, and Liability Act

Under 28 CFR 50.7, notice is hereby given that on April 23, 2003, a proposed Consent Decree in United States v. Godley Auction Company, Inc., Civil Action Number 4-01-4857-23, was lodged with the United States District Court for the District of South Carolina.

In this action the United States sought, under Section 107 of the Comprehensive Environmental Response, Compensation, and Liability Act, 42 U.S.C. 9607, recovery of response costs incurred by the United States Environmental Protection Agency in connection with responding to the release and threatened release of hazardous substances at the Southern Asbestos Superfund Site in Bennettsville, South Carolina. Under the Consent Decree, Godley will pay $500,000 plus interest in installments over less than three years. This settlement is based on Godley's ability to pay.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Godley Auction Company, Inc., DOJ Ref. #90-11-3-07626.

The Consent Decree may be examined at the Office of the United States Attorney, 1441 Main Street, Suite 500, Columbia, South Carolina, 29201, and at U.S. EPA Region IV, 61 Forsyth Street, Atlanta, Georgia 30303. During the public comment period, the Consent Decree may also be examined on the following Department of Justice Web site: http://usdoj.gov/enrd/open.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $6.50 (25 cents per page reproduction cost) payable to the U.S. Treasury.

Ellen Mahan,
Assistant Chief, Environmental Enforcement Section, Environment and Natural Resources Division.

[FR Doc. 03-10707 Filed 4-30-03; 8:45 am]

BILLING CODE 4410-15-M